DEPARTMENT OF AGRICULTURE

Submission for OMB Review; Comment Request

April 14, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Grey Towers Visitor Comment Card.

OMB Control Number: 0596-NEW.

Summary of Collection: Executive Order 12862, “Setting Customer Service Standards,” seeks to “* * * ensure that the Federal government provides the highest quality service possible to the American people.” Located in Milford, PA, Grey Towers was originally the summer estate of the James Pinchot family and later the primary home of Gifford Pinchot, America's first forester and founder of the USDA Forest Service (FS). In 1963, Gifford Bryce Pinchot, son of Gifford and Cornelia, donated Grey Towers and 102 acres to the FS which now administers the site. The FS works with numerous partners to carry on the Pinchot legacy by delivering public programs, interpretive tours, and conservation education programs.

Need and Use of the Information: FS will distribute comment cards to guests at the conclusion of tours, programs and events. Grey Towers will also post comment cards on its Web site to allow visitors the option to electronically complete and submit. Participant input is vital to achieving Grey Towers' goal to provide quality-based programs and events. Cards will be collected by Grey Towers Programs and Administrative Staff and feedback will be used to evaluate programs, and in reports to staff and stakeholders. The evaluation will further improve upon or otherwise change programs and events, measure site usage, and generate data on participant's feedback on various programs and events. If the information is not collected, programs and events would continue to have negative aspects of which the staff would be unaware, such as insufficient or unbeneficial delivery or content.

Description of Respondents: Individuals or households.

Number of Respondents: 8,000.

Frequency of Responses: Reporting: Annually.

Total Burden Hours: 1,360.

Charlene Parker,
Departmental Information Collection Clearance Officer.

[FR Doc. 2010-9011 Filed 4-19-10; 8:45 am]

BILLING CODE 3410-11-P